ENVIRONMENTAL PROTECTION AGENCY

40 CFR Part 51

[FRL-7664-9; OAR-2002-0076]

Regional Haze Regulations and Guidelines for Best Available Control Technology (BART) Determinations; Notice of Public Hearing

AGENCY: Environmental Protection Agency (EPA).

ACTION: Notice of public hearing.

SUMMARY: The EPA is announcing two public hearings for the proposed rule “Regional Haze Regulations and Guidelines for Best Available Control Technology (BART) Determinations” (69 FR 25184, May 5, 2004). The first public hearing will be held on June 4, 2004, in Alexandria, VA, and the second public hearing will be held on June 15, 2004, in Denver, CO. (The EPA will be holding a separate public hearing for a related proposal, “Supplemental Proposal for the Rule to Reduce Interstate Transport of Fine Particulate Matter and Ozone (Clean Air Interstate Rule),” at the same facility in Alexandria, VA, on June 3, 2004. The EPA is holding the hearings on consecutive days to facilitate travel plans for persons wishing to attend both hearings.)

On July 1, 1999, EPA promulgated regulations to address regional haze (64 FR 3714). These regulations were challenged, and on May 24, 2002, the U.S. Court of Appeals for the District of Columbia Circuit issued a ruling vacating the regional haze rule in part and sustaining it in part. American Corn Growers Ass'n v. EPA, 291 F.3d 1 (D.C. Cir. 2002). The May 5, 2004 proposal (hereinafter referred to as the “BART rule”) addresses the court's ruling in that case.

In addition, prior to the court's decision, EPA had proposed guidelines for implementation of the BART requirements under the regional haze rule (66 FR 38108; July 20, 2001). The proposed guidelines were intended to clarify the requirements of the regional haze rule's BART provisions. We proposed to add the guidelines and also proposed to add regulatory text requiring that these guidelines be used for addressing BART determinations under the regional haze rule. In addition, we proposed one revision to guidelines issued in 1980 for facilities contributing to “reasonably attributable” visibility impairment.

In the American Corn Growers case, the court vacated and remanded the BART provisions of the regional haze rule. To respond to the court's ruling, we have proposed new BART provisions and are reproposing the BART guidelines. The American Corn Growers court also remanded to the Agency its decision to extend the deadline for the submittal of regional haze plans. Subsequently, Congress amended the deadlines for regional haze plans (Consolidated Appropriations Act for Fiscal Year 2004, Public Law 108-199, January 23, 2004). We have proposed to amend the rule to conform to the new statutory deadlines.

DATES: The public hearings for the BART rule will be held on June 4, 2004, and June 15, 2004. Please refer to SUPPLEMENTARY INFORMATION for additional information on the public hearings.

ADDRESSES: The June 4, 2004 public hearing will be held at the Holiday Inn Select, Old Town Alexandria, 480 King Street, Alexandria, Virginia 22314, phone 703-549-6080. The June 15, 2004 public hearing will be held at the Adams Mark Hotel, 1550 Court Place, Denver, CO, 80202, phone 303-893-3333.

Written comments on the BART rule may also be submitted to EPA electronically, by mail, by facsimile, or through hand delivery/courier. Please refer to the BART rule for the addresses and detailed instructions.

Documents relevant to this action are available for public inspection at the EPA Docket Center, located at 1301 Constitution Avenue, NW., Room B102, Washington, DC, between 8:30 a.m. and 4:30 p.m., Monday through Friday, excluding legal holidays. A reasonable fee may be charged for copying. Documents are also available through EPA's electronic Docket system at http://www.epa.gov/edocket.

The EPA Web site for this rulemaking, which will include information about the public hearings, are at http://www.epa.gov/air/visibility/actions.html.

FOR FURTHER INFORMATION CONTACT: If you would like to speak at the public hearing or have questions concerning the public hearing, please contact Nancy Perry at the address given below under SUPPLEMENTARY INFORMATION. Questions concerning the proposed BART Rule should be addressed to Kathy Kaufman, U.S. EPA, Office of Air Quality Planning and Standards, Air Quality Strategies and Standards Division (C504-02), Research Triangle Park, NC 27711, telephone number (919) 541-0102, e-mail kaufman.kathy@epa.gov, or Todd Hawes, U.S. EPA, Office of Air Quality Planning and Standards, Air Quality Strategies and Standards Division (C504-02), Research Triangle Park, NC 27711, telephone number (919) 541-5591, e-mail at hawes.todd@epa.gov.

SUPPLEMENTARY INFORMATION:

Public Hearings

The public hearings will provide interested parties the opportunity to present data, views, or arguments concerning the proposed rules. The EPA may ask clarifying questions during the oral presentations, but will not respond to the presentations at that time. Written statements and supporting information submitted during the comment period will be considered with the same weight as any oral comments and supporting information presented at the public hearings. Written comments must be postmarked by the last day of the comment period, as specified in the proposals.

The public hearings will be held on June 4, 2004, and June 15, 2004. The meeting facilities and phone numbers are provided above under ADDRESSES.

If you would like to present oral testimony at the hearings on either or both proposals, please notify Nancy Perry, U.S. EPA, Office of Air Quality Planning and Standards, Air Quality Strategies and Standards Division, C504-02, Research Triangle Park, NC 27711, telephone (919) 541-5628, e-mail perry.nancy@epa.gov.

The public hearings will begin each day at 9 a.m. and continue into the evening until 5 p.m.

Oral testimony will be limited to 5 minutes for each commenter. We will not be providing equipment for commenters to show overhead slides or make computerized slide presentations unless we receive special requests in advance. Commenters should notify Nancy Perry if they will need specific equipment. The EPA encourages commenters to provide written versions of their oral testimonies either electronically on computer disk or CD-ROM or in paper copy. Verbatim transcripts of the hearings and written statements will be included in the rulemaking dockets.

How Can I Get Copies of This Document and Other Related Information?

The BART rule is available at the EPA Web site identified above, and was published in the Federal Register on May 5, 2004 at 69 FR 25184.

The EPA has established the official public docket for the BART rule under Docket ID No. OAR-2002-0076. The EPA has also developed a Web site for the proposal at the addresses given above. Please refer to the proposals for detailed information on accessing information related to the proposal.

Dated: May 13, 2004.
Gregory A. Green,
Acting Director, Office of Air Quality Planning and Standards.

[FR Doc. 04-11435 Filed 5-19-04; 8:45 am]

BILLING CODE 6560-50-P